DEPARTMENT OF HEALTH AND HUMAN SERVICES

Centers for Medicare & Medicaid Services

[Document Identifiers: CMS-10434 and CMS-R-131]

Agency Information Collection Activities: Proposed Collection; Comment Request

AGENCY: Centers for Medicare & Medicaid Services.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by January 8, 2016.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10434 Medicaid and CHIP Program (MACPro)

CMS-R-131 Advance Beneficiary Notice of Noncoverage (ABN)

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: Medicaid and CHIP Program (MACPro); Use: While currently approved by OMB under the regular PRA process, CMS is proposing to have all current and upcoming MACPro collections approved under OMB's generic process. We are also transitioning MACPro to a fully functioning electronic system such that MACPro becomes the sole system of record. MACPro will be the required means for states to amend Medicaid and CHIP state plans, waivers, and demonstrations. Templates that will be submitted for approval under MACPro include certain collections approved under our generic umbrella (CMS-10398, OMB 0938-1148), relevant collections approved as a regular stand-alone information collection requests, and upcoming collections. Form Number: CMS-10434 (OMB Control Number: 0938-1188); Frequency: Monthly, yearly, quarterly, semi-annually, once, or occasionally; Affected Public: State, Local, or Tribal Governments; Number of Respondents: 56; Total Annual Responses: 3,360; Total Annual Hours: 89,012. (For policy questions regarding this collection contact Annette Pearson at 410-786-6858).

2. Type of Information Collection Request: Extension of a currently approved collection; Title of Information Collection: Advance Beneficiary Notice of Noncoverage (ABN); Use: The Advance Beneficiary Notice (ABN) is delivered by Part B paid physicians, providers (including institutional providers like outpatient hospitals), practitioners (such as chiropractors), and suppliers, as well as hospice providers and Religious Non-medical Health Care Institutions paid under Part A. Home health agencies providing items and services under Part A or Part B also use the ABN. Other Medicare institutional providers paid under Part A use other approved notices for this purpose. With this PRA submission, minimal formatting changes have been made to the ABN form, including the addition of language informing beneficiaries of their rights under Section 504 of the Rehabilitation Act of 1973 (section 504) by alerting the beneficiary to CMS's nondiscrimination practices and the availability of alternate forms of this notice, if needed. Additionally, minor language and grammatical changes have been made to the form's instructions to improve provider/supplier comprehension and decrease the probability of errors in completing the ABN. There are no substantive changes to the form or to the instructions. Form Number: CMS-R-131 (OMB control number: 0938-0566; Frequency: Occasionally; Affected Public: Private sector (Business or other for-profits and Not-for-profit institutions); Number of Respondents: 1,499,910; Total Annual Responses: 62,910,000; Total Annual Hours: 7,339,710. (For policy questions regarding this collection contact Evelyn Blaemire at 410-786-1803).

Dated: November 4, 2015.
William N. Parham, III,
Director, Paperwork Reduction Staff, Office of Strategic Operations and Regulatory Affairs.

[FR Doc. 2015-28449 Filed 11-6-15; 8:45 am]

BILLING CODE 4120-01-P